INTERNATIONAL TRADE COMMISSION

[Investigation No. 337-TA-683]

In the Matter of Certain MLC Flash Memory Devices and Products Containing Same; Notice of Commission Determination Not To Review an Initial Determination Granting a Joint Motion To Terminate the Investigation in Its Entirety Based on a Settlement Agreement; Termination of Investigation

AGENCY: U.S. International Trade Commission.

ACTION: Notice.

SUMMARY: Notice is hereby given that the U.S. International Trade Commission has determined not to review the presiding administrative law judge's (“ALJ”) initial determination (“ID”) (Order No. 29) granting a joint motion to terminate the investigation in its entirety based on a settlement agreement.

FOR FURTHER INFORMATION CONTACT: Megan M. Valentine, Office of the General Counsel, U.S. International Trade Commission, 500 E Street, SW., Washington, DC 20436, telephone (202) 7908-2301. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on August 27, 2009, based on a complaint filed by BTG International, Inc. of West Conshohocken, Pennsylvania (“BTG”). 74 FR 43723-4 (August 27, 2009). The complaint, as amended and supplemented, alleges violations of section 337 of the Tariff Act of 1930, as amended, 19 U.S.C. 1337, in the importation into the United States, the sale for importation, and the sale within the United States after importation of certain MLC flash memory devices and products containing same by reason of infringement of certain claims of U.S. Patent Nos. 5,394,362; 5,764,571; 5,872,735; 6,104,640; and 6,118,692. The complaint further alleges the existence of a domestic industry. The Commission's notice of investigation named Samsung Electronics Co., Ltd, Samsung Electronics America, Inc., Samsung Semiconductor, Inc., Samsung Telecommunications America, LLC (collectively “Samsung”); Apple, Inc., ASUStek Computer, Inc., ASUS Computer International, Dell, Inc., Lenovo (Singapore) Pte. Ltd, Lenovo (United States) Inc., PNY Technologies, Inc., Sony Corporation, Sony Electronics, Inc., Transcend Information, Inc. (all collectively “Covington Respondents”); Research in Motion Corporation and Research in Motion, Ltd. of Ontario, Canada (collectively “RIM Respondents”) as respondents.

On December 20, 2010, BTG, Samsung, and the Covington Respondents filed a joint motion to terminate the investigation as to all respondents on the basis of a settlement agreement between BTG and Samsung, which effectively resolves the dispute between BTG and all Respondents in the investigation. On December 22, 2010, BTG and the Covington Respondents filed an amendment and correction to the joint motion to terminate. On December 23, 2010, the Commission investigative attorney filed a response in support of the motion. No other responses were received.

On January 3, 2011, the ALJ issued the subject ID granting the joint motion to terminate the investigation in its entirety pursuant to Commission Rule 210.21(b). No petitions for review of the subject ID were filed.

The Commission has determined not to review the ID.

The authority for the Commission's determination is contained in section 337 of the Tariff Act of 1930, as amended (19 U.S.C. 1337), and in section 210.42 of the Commission's Rules of Practice and Procedure (19 CFR 210.42).

By order of the Commission.
Issued: January 19, 2011.
Marilyn R. Abbott,
Secretary to the Commission.

[FR Doc. 2011-1419 Filed 1-24-11; 8:45 am]

BILLING CODE 7020-02-P